DEPARTMENT OF ENERGY

Federal Energy Regulatory Commission

[Project No. 2322-069]

Brookfield White Pine Hydro LLC; Notice of Waiver Period for Water Quality Certification Application

On October 15, 2021, Brookfield White Pine Hydro LLC (Brookfield) submitted to the Federal Energy Regulatory Commission a copy of its application for a Clean Water Act section 401(a)(1) water quality certification filed with the Maine Department of Environmental Protection (Maine DEP), in conjunction with the above captioned project. On October 20, 2021, Brookfield filed documentation of the date that Maine DEP received the application. Pursuant to 40 CFR 121.6, we hereby notify the Maine DEP of the following:

Date of Receipt of the Certification Request: October 18, 2021.

Reasonable Period of Time to Act on the Certification Request: One year.

Date Waiver Occurs for Failure to Act: October 18, 2022.

If the Maine DEP fails or refuses to act on the water quality certification request by the above waiver date, then the agency's certifying authority is deemed waived pursuant to section 401(a)(1) of the Clean Water Act, 33 U.S.C. 1341(a)(1).

Dated: October 26, 2021.
Kimberly D. Bose,
Secretary.

[FR Doc. 2021-23734 Filed 10-29-21; 8:45 am]

BILLING CODE 6717-01-P